DEPARTMENT OF THE INTERIOR

Bureau of Land Management

[LLUT920000-L14300000-FM0000-LXSS014J0000; UT-52455]

Public Land Order No. 7820; Partial Modification, Public Water Reserve No. 107; Utah

AGENCY: Bureau of Land Management, Interior.

ACTION: Public Land Order.

SUMMARY: This order partially modifies a withdrawal created by an Executive Order insofar as it affects 264.21 acres of public lands withdrawn from settlement, sale, location, or entry under the public land laws, including location for non-metalliferous minerals under the United States mining laws, for protection of springs and waterholes and designated as Public Water Reserve No. 107. This order opens the lands only to exchange under the authority of the Utah Recreational Land Exchange Act of 2009.

DATES: Effective Date: August 23, 2013.

FOR FURTHER INFORMATION CONTACT: Joy Wehking, Bureau of Land Management, Utah State Office, 440 West 200 South, Suite 500, Salt Lake City, UT 84101, 801-539-4114. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Subject generally to Section 206 of the Federal Land Policy and Management Act of 1976 (43 U.S.C. 1716) and applicable law, Public Law 111-53 (123 Stat. 1982) directs the exchange of land between the United States and the State of Utah, School and Institutional Trust Lands Administration. This partial modification is needed to facilitate a pending land exchange.

Order

By virtue of the authority vested in the Secretary of the Interior by Section 204 of the Federal Land Policy and Management Act of 1976, 43 U.S.C. 1714, it is ordered as follows:

1. The withdrawal created by the Executive Order dated April 17, 1926, which established Public Water Reserve No. 107, is hereby modified to allow for a land exchange in accordance with Public Law 111-53 (123 Stat. 1982) and Section 206 of the Federal Land Policy and Management Act of 1976, as amended (43 U.S.C. 1716), insofar as it affects the following described public lands:

Salt Lake Meridian

T. 15 S., R. 23 E.,

Sec. 23, SE¼SE¼;

Sec. 24, SE¼SE¼.

T. 17 S., R. 22 E.,

Sec. 4, SE¼NE¼;

Sec. 6, SW¼SE¼;

Sec. 7, NW¼SE¼;

Sec. 19, lot 10 and SW¼NE¼.

The areas described aggregate 264.21 acres in Uintah and Grand Counties.

2. At 9 a.m., on August 23, 2013, the lands described in Paragraph 1 will be opened to exchange pursuant to Public Law 111-53 (123 Stat. 1982) and Section 206 of the Federal Land Policy and Management Act of 1976, as amended, (43 U.S.C. 1716), subject to valid existing rights, the provisions of existing withdrawals, other segregations of record, and the requirements of applicable law.

Dated: August 14, 2013.
Rhea S. Suh,
Assistant Secretary—Policy, Management and Budget.

[FR Doc. 2013-20591 Filed 8-22-13; 8:45 am]

BILLING CODE 4310-DQ-P